DEPARTMENT OF THE INTERIOR

Bureau of Land Management

[CO-921; COC-70538; CO-130; COC 69290]

Notice of Availability of the Draft Environmental Impact Statement for the Proposed Red Cliff Coal Mine and Associated Surface Facilities Including a Railroad Spur Line COC 69290, and Federal Coal Lease by Application COC 70538, in Garfield and Mesa Counties, CO

AGENCY: Bureau of Land Management, Interior.

ACTION: Notice of Availability.

SUMMARY: The Bureau of Land Management (BLM), Colorado State Office, Lakewood, Colorado, hereby gives notice that a public hearing will be held to receive comments on the Draft Environmental Impact Statement (DEIS), Maximum Economic Recovery (MER) and Fair Market Value (FMV) of Federal coal to be offered. An application for coal lease was filed by CAM-Colorado, LLC (CAM) on September 12, 2006. As a result, the BLM offers for competitive lease 14,466 acres of Federal coal in Garfield County, Colorado.

In accordance with the National Environmental Policy Act of 1969 (NEPA) and the Federal Land Policy and Management Act of 1976, the BLM has prepared a DEIS for the proposed Red Cliff Mine, located near Loma, Colorado. The DEIS responds to Right-of-Way (ROW) Applications for a railroad spur and associated mine facilities on Federal Lands, and an electrical transmission line. In addition, a Federal Coal Lease by Application (LBA) was submitted by CAM-Colorado, on September 12, 2006. The BLM is providing this notice to announce the availability of the Red Cliff Mine DEIS, the proposed LBA, and the public hearing requesting comments on the DEIS, MER and FMV, pursuant to 40 CFR 1503.1 and 43 CFR 3425.4.

The Environmental Impact Statement (EIS) is being prepared in cooperation with the Office of Surface Mining Reclamation and Enforcement (OSM); U.S. Army Corps of Engineers (USACE); the Colorado Department of Natural Resources; the Colorado Division of Reclamation, Mining and Safety (CDRMS); the Colorado Division of Wildlife (CDOW); and Garfield and Mesa counties.

The EIS analyzes the development of surface facilities for coal mining associated with CAM's proposed underground Red Cliff Mine, including roads, a water pipeline, electric transmission line, conveyers, coal stockpile and waste disposal areas, a coal preparation plant, the mine portal, other administrative and operations facilities, and a railroad spur line that will connect to the existing Union Pacific Railroad line near Mack, Colorado. The EIS also considers the effects of extracting coal from CAM's existing Federal coal leases, defined as logical mining unit COC-57198, and issuance of an adjoining Federal coal LBA COC-070538. This notice announces the opening of the public comment period for the DEIS.

DATES: Written comments on the DEIS, MER, and FMV will be accepted for 60 calendar days following the date that the Environmental Protection Agency publishes a NOA in the Federal Register. The public hearing will be held at a date, time and location to be announced in the local media, displayed on the Web site http://www.blm.gov/rmp/co/redcliffmine/, or obtained by calling the BLM Grand Junction Field Office at 970-244-3000, Monday through Friday between 7:30 a.m. and 4:30 p.m. Mountain Standard Time (MST).

ADDRESSES: You may submit comments by any of the following methods:

• Web site: http://www.blm.gov/rmp/co/redcliffmine/.

• E-mail: RedCliffMineEIS@urscorp.com.

• Fax: 303-239-3808.

• Mail: Glenn Wallace, BLM, 2850 Youngfield Street, Lakewood, CO 80215.

Please note that public comments and information submitted, including names, street addresses, and e-mail addresses of respondents, will be available for public review and disclosure at the above address during regular business hours (8 a.m. to 4 p.m.), Monday through Friday, except holidays. Before including your address, phone number, e-mail address, or other personal identifying information in your comment, please be aware that your entire comment, including your personal identifying information, may be made publicly available at any time. While you can request in your comment to withhold your personal identifying information from public review, we cannot guarantee that we will be able to do so. Comments and responses to comments will be published as part of the Final EIS.

Copies of the DEIS for the Proposed Red Cliff Coal Mine are available at the Web site http://www.blm.gov/rmp/co/redcliffmine/. A limited number of printed copies of the DEIS and copies of the DEIS on compact disk are available at the BLM Grand Junction Field Office, located at 2815 H Road, Grand Junction, Colorado 81506, and at the Colorado State Office, 2850 Youngfield Street, Lakewood, Colorado 80215. In addition, a printed copy of the DEIS is available for review at the Fruita Branch Library at 325 E. Aspen Avenue, in Fruita, Colorado and at the Mesa County Central Library at 530 Grand Avenue, in Grand Junction, Colorado.

FOR FURTHER INFORMATION CONTACT: Glenn Wallace, 303-239-3736, glenn_wallace@blm.gov, or by mail at 2850 Youngfield Street, Lakewood, CO 80215.

SUPPLEMENTARY INFORMATION: The BLM, Colorado State Office, Lakewood, Colorado, hereby gives notice of the public hearing at a date, time and location to be announced in the local media, displayed on the Web site http://www.blm.gov/rmp/co/redcliffmine/, or obtained by calling the BLM Grand Junction Field Office, 970-244-3000, Monday through Friday between 7:30 a.m. and 4:30 p.m. Mountain Standard Time (MST).

The BLM proposes to offer for competitive lease Federal coal in the lands described as:

T. 7 S, R. 101 W., 6th P.M. Colorado

Sec. 7, SE¼SE¼, Lot 8

Sec. 8, S½SW¼, NE¼SW¼, SE¼

Sec. 16, TR 43, Lots 5 and 6

Sec. 17, All

Sec. 18, E½E½, Lots 5 to 8 inclusive

Sec. 19, E½E½, Lots 5 to 8 inclusive

Sec. 20, All

Sec. 21, E½, S½NW¼, SW¼, Lots 1 and 2

Sec. 28, N½, SW¼, W½SE¼, NE¼SE¼

Sec. 29, All

Sec. 30, TR 44, Lots 5 to 10 inclusive

Sec. 31, Lots 5 to 8 inclusive

Sec. 32, NE¼, N½NW¼, Lots 1 to 4 inclusive

Sec. 33, NW¼, Lots 3 and 4

T. 8 S., R. 101 W. 6th P.M. Colorado

Sec. 4, Lot 8

Sec. 5, S½, Lots 5 to 20 inclusive

Sec. 6, SE¼, Lots 8 to 27 inclusive

Sec .7, E½, E½W½, Lots 5 to 8 inclusive

Sec. 8, All

T. 7 S., R., 102 W., 6th P. M. Colorado

Sec. 13, S½NW¼, SW¼, SW¼NE¼, W½SE¼, Lots 2 to 4 inclusive

Sec. 14, S½N½, S½

Sec. 23, E½, NW¼, E½SW¼, Lots 1 and 4

Sec. 24, W½E½, W½, Lots 1 to 4 inclusive

Sec. 25, W½E½, W½, Lots 1 to 4 inclusive

Sec. 26, All

Sec. 35, All

Sec. 36, W½E½, W½, Lots 1 to 4 inclusive

T. 8 S., R. 102 W., 6th P. M. Colorado

Sec. 1, S½, Lots 5 to 20 inclusive

Sec. 12, N½, SE¼

Containing approximately 14,466 acres in Garfield County, Colorado. The public hearing described above is for the purpose of soliciting public input regarding the MER and FMV of the proposed coal lease.

The proposed Red Cliff Mine is located approximately 11 miles north of the towns of Mack and Loma, Colorado, and 1.5 miles east of State Highway (SH) 139. CAM is proposing a new mine portal and associated facilities to extract low-sulfur coal from Federal coal leases C-0125515, C-0125516 and C-0125439 (defined collectively as logical mining unit COC-57198), from LBA COC 070538 filed September 12, 2006, as well as a small amount of private coal.

CAM proposes to locate surface facilities on existing and potential new coal leases with the majority of the surface facilities located off-lease on BLM administered public lands within the boundaries of the proposed ROW (approximately 1,140 acres). These facilities will include, but not be limited to, a waste rock pile, railroad loop, unit train loadout, a coal conveyor, storage and equipment yards, sewage treatment plant, water tank, fuel oil storage and various buildings. County Road (CR) X will be upgraded to serve as the mine access road from SH 139. The railroad spur will be located on BLM and private lands, with the railroad connecting to the existing Union Pacific Railroad (UPRR) near Mack, Colorado. The proposed railroad will traverse approximately 9.5 miles of BLM administered public land and approximately 5 miles of private land. A water diversion will be constructed in Mack Wash and the water pipeline will follow the proposed railroad spur. The railroad spur would serve only the Red Cliff Mine for the purpose of transporting coal to market. CAM will own the railroad spur, but the trains using the spur will be operated by the UPRR or other railroad companies. The draft EIS discusses BLM's analysis and proposed conclusion that CAM will not operate a common carrier railroad.

Electric power will be needed at the mine to run the underground mining machinery, the conveyor system, and other mine support facilities. The local utility, Grand Valley Power (GVP), has applied to BLM for a ROW to supply the necessary electric power. GVP will need to construct a new 69-kilovolt (kV) transmission line from the Uintah Substation to the mine to supply this power. The transmission line will be approximately 14 miles long, with approximately 7 miles on federally managed lands and 7 miles on private land, depending on which alternative route is chosen. This ROW application is analyzed in the EIS as a connected action as is the LBA filed by CAM (COC-070538) for approximately 11,660 acres adjacent to CAM's existing leases. BLM determined that, if this coal is to be leased, it would be by a competitive bid process. BLM has modified the proposed LBA area to include 14,466 acres. The EIS analysis area includes a total future lease area of about 23,000 acres which corresponds to the estimated life of the mine.

CAM proposes to conduct underground mining 24 hours per day, 7 days per week, and 365 days per year by room and pillar and longwall mining techniques. CAM's production from the Red Cliff Mine would be up to 8 million tons per year of clean coal depending on market conditions, with an estimated mine life of 30 years.

A mine permit application has been filed for CAM's existing leases in accordance with the OSM and the CDRMS regulations. This EIS will meet the NEPA requirements for the mine permit for the existing Federal coal leases, and is intended to provide necessary information to facilitate the USACE, Colorado Public Utility Commission, and Garfield and Mesa Counties' permitting decisions regarding the project. There will be additional opportunities for public involvement as the mine permit application is processed.

The DEIS analyzes the potential impacts of the proposed action and connected actions and a No-Action alternative. Alternatives to individual project components were considered that were consistent with the purpose and need, which is to mine and transport coal for sale at competitive prices to help supply the energy needs of the United States. Alternatives to project components were included for detailed analysis if they were found to be practical, feasible, reduced environmental impacts, and/or addressed public and agency concerns. A wide range and variety of alternatives were examined, resulting in the following alternative project components that are analyzed in detail: grade separated railroad crossing at Mesa County Road (CR) M.8; noiseless grade crossings at CR M.8 and CR 10; construction of an electric transmission line along CR 16 crossing BLM and private lands north of the Highline Canal; construction of an electric transmission line along CR 16 to the Highline Canal and then along section lines to avoid as many private land parcels as possible; and construction of an electric transmission line along CR 14 to just north of the Highline Canal and then northwesterly and north to join the proposed railroad alignment east of SH 139.

Required consultations are in progress or have been completed, including consultations with tribal governments and the State Historic Preservation Officer, as required by the National Historic Preservation Act; consultations with the U.S. Fish & Wildlife Service as required by the Endangered Species Act; and consultations with the USACE as required by the Clean Water Act.

Raul Morales,
Grand Junction Associate Field Manager.

[FR Doc. E9-769 Filed 1-14-09; 8:45 am]

BILLING CODE 4310-JB-P